DEPARTMENT OF TRANSPORTATION

Federal Aviation Administration

Notice of Availability of the Final Environmental Assessment (EA) and Finding of No Significant Impact/Record of Decision (FONSI/ROD) for the Runway 14/32 Relocation/Extension and Associated Improvements Project for the Lake Elmo Airport (21D) in Lake Elmo, MN

AGENCY: Federal Aviation Administration (FAA), DOT.

ACTION: Notice.

SUMMARY: The FAA is issuing this notice to advise the public that the FAA has prepared and approved (August 31, 2018) a FONSI/ROD based on the Final EA for a Runway 14/32 Relocation/Extension and Associated Improvements Project at the Lake Elmo Airport. The Final EA was prepared in accordance with the National Environmental Policy Act (NEPA) of 1969, as amended, FAA Orders 1050.1F, “Environmental Impacts: Policies and Procedures” and 5050.4B, “NEPA Implementing Instructions for Airport Actions”.

DATE: This notice is applicable September 17, 2018.

FOR FURTHER INFORMATION CONTACT: Mr. Josh Fitzpatrick, Environmental Protection Specialist, FAA Dakota-Minnesota Airports District Office (ADO), 6020 28th Avenue South, Suite 102, Minneapolis, Minnesota 55450. Telephone number is (612) 253-4639. Copies of the FONSI/ROD and/or Final EA are available upon written request by contacting Mr. Josh Fitzpatrick through the contact information above.

SUPPLEMENTARY INFORMATION: The FAA and the Metropolitan Airports Commission (MAC) jointly prepared the Final EA/State of Minnesota Environmental Assessment Worksheet (EAW), pursuant to the requirements of the NEPA and the Minnesota Environmental Policy Act.

The Final EA evaluated the 21D Runway 14/32 Relocation/Extension and Associated Improvements Project. The purpose of the proposed action is to address failing, end of life infrastructure; enhance safety for airport users and neighbors; and improve facilities for the family of aircraft using the airport. The proposed action is needed based on the following four deficiencies at the existing facility: The existing runway and taxiway pavement is deteriorating and needs to be replaced; Runway 14/32 has several incompatible land uses within its runway protection zones (RPZs), including a railroad and two public roads; the existing pavement and airfield geometry do not meet the needs of airport users and aircraft; and the existing instrument approach procedures do not use the latest available navigational technology.

The Final EA identified and evaluated reasonable alternatives. Numerous alternatives were considered, but eventually discarded for not meeting the purpose and need. For the primary runway, Alternatives B, B1, and the No Action were examined in detail. For the crosswind runway, the No Action and one other alternative were examined. For roadway relocation, Alternatives 1, 2, 4A, 4B, and the No Action were examined. After careful analysis and consultation with various resource agencies, the MAC selected Primary Runway Alternative B1, the Crosswind Runway Alternative, and Roadway Alternative 3 as the proposed action. Primary Runway Alternative B1, the Crosswind Runway Alternative, and Roadway Alternative 3 satisfies the purpose and need while minimizing impacts.

The Proposed Action includes the following elements: Relocate Runway 14/32 by shifting 615 feet to the northeast and extend to 3,500 feet, including grading, clearing, and runway lighting; extinguish existing prescriptive easement for 30th Street North and seek a land release for non-aeronautical use from the FAA to allow realignment of 30th Street North around the new Runway 32 RPZ to reconnect with the existing Neal Avenue North intersection; relocate the Airport perimeter fence to reflect the new Runway 32 RPZ; remove the existing north side taxiway and compass calibration pad and construct a new crossfield taxiway to serve the new Runway 14 end, including taxiway lighting; convert existing Runway 14/32 to a partial parallel taxiway and remove the portion of the existing parallel taxiway south of the Runway 04 threshold; reconstruct Runway 4/22 and extend to 2,750 feet, including necessary lighting and taxiway connectors; construct other taxiways and engine run-up pads as needed to support the relocated Runway 14/32 and extended Runway 04/22, including connector taxiways and a full-length parallel taxiway on the north side of the relocated Runway 14/32, and install taxiway lighting and/or reflectors; relocate the compass calibration pad adjacent to the new partial parallel taxiway (converted Runway 14/32); establish non-precision GPS-based instrument approach procedures to all runway ends not already equipped; provide Runway 14/32 lighting systems with the relocated runway; install Medium Intensity Runway Lights (MIRLs) on Runway 04/22, Precision Approach Path Indicators (PAPIs) on the Runway 04, 14, and 22 ends, and Runway End Identifier Lights (REILs) on each end of Runway 04/22; remove approximately 20 acres of on-Airport trees and individual off-Airport trees as necessary to clear trees that penetrate FAA Threshold Siting Surface (TSS)/Part 77 approach and transitional surfaces; install obstruction lighting on Fixed Based Operator (FBO) and hangar buildings in the Terminal Instrument Procedures (TERPS) departure surface areas beyond Runway 04, 14, and 22 ends; construct an on-Airport access road connecting the north and west building areas; voluntarily explore creation of Rusty Patched Bumble Bee/pollinator habitat on airport property southwest of proposed 30th Street North realignment.

Based on the analysis in the Final EA, the FAA has determined that the proposed action will not result in significant impacts to resources identified in accordance with FAA Orders 1050.1F and 5050.4B. Therefore, an environmental impact statement will not be prepared.

Issued in Minneapolis, Minnesota, on August 31, 2018.
Andy Peek,
Manager, Dakota-Minnesota Airports District Office, FAA, Great Lakes Region.

[FR Doc. 2018-20144 Filed 9-14-18; 8:45 am]

BILLING CODE 4910-13-P